DEPARTMENT OF HOMELAND SECURITY

Coast Guard

[USCG-2005-20401]

Merchant Marine Personnel Advisory Committee

AGENCY: Coast Guard, DHS.

ACTION: Notice of meetings.

SUMMARY: A working group of the Merchant Marine Personnel Advisory Committee (MERPAC) will meet to discuss task statement #47 concerning Recommendations on knowledge and practical qualifications for engineers at the operational and management levels to serve on steam propelled vessels, and task statement #49 concerning Recommendations for use of a model sea course project in conjunction with an approved program for officer in charge of an engineering watch coming up through the hawse pipe. MERPAC advises the Secretary of Homeland Security on matters relating to the training, qualifications, licensing, certification, and fitness of seamen serving in the U.S. merchant marine. These meetings will be open to the public.

DATES: The MERPAC working group will meet on Monday, March 21, 2005 from 8:30 a.m. to 4 p.m. (local), and Tuesday, March 22, 2005, from 8:30 a.m. to 4 p.m. These meetings may adjourn early if all business is finished. Requests to make oral presentations should reach the Coast Guard on or before March 8, 2005. Written material and requests to have a copy of your material distributed to each member of the working group should reach the Coast Guard on or before March 8, 2005.

ADDRESSES: The working group of MERPAC will meet in Room 1303 of Coast Guard Headquarters, 2100 Second St., SW., Washington, DC 20593. Send written material and requests to make oral presentations to Mr. Mark Gould, Commandant (G-MSO-1), U.S. Coast Guard Headquarters, 2100 Second Street SW., Washington, DC 20593-0001. This notice is available on the Internet at http://dms.dot.gov under Docket [USCG-2005-20401].

FOR FURTHER INFORMATION CONTACT: For questions on this notice, contact Mr. Gould, Assistant to the Executive Director, telephone 202-267-6890, fax 202-267-4570, or e-mail mgould@comdt.uscg.mil. Further directions regarding the location of Coast Guard Headquarters may be obtained by contacting Mr. Gould at the above numbers.

SUPPLEMENTARY INFORMATION: Notice of these meetings is given under the Federal Advisory Committee Act, 5 U.S.C. App. 2.

Agenda of March 21-22, 2005 Meeting

The working group will meet to discuss Task Statement #47, “Recommendations on knowledge and practical qualifications for engineers at the operational and management levels to serve on steam propelled vessels,” and Task Statement #49, “Recommendations for use of a model sea course project in conjunction with an approved program for officer in charge of an engineering watch coming up through the hawse pipe.” Both of these task statements are available in Docket [USCG-2005-20401]. With regard to task statement #47, the working group will develop a portion of a training program containing the minimum requirements for a Certificate as engineer at the operational and management levels to serve on steam propelled vessels under the International Convention on Standards of Training, Certification and Watchkeeping for Seafarers (STCW), as amended. The training program will be in a table format similar to Section A of the STCW Code available for purchase from the International Maritime Organization, 4 Albert Embankment, London SE1 7SR, England. With regard to task statement #49, the working group will develop a model sea course project to be used in conjunction with an approved program for officer in charge of an engineering watch coming up through the hawse pipe under the STCW, as amended. At the end of the meetings, the working group will re-cap its discussions and prepare their programs for the full committee to consider at its next meeting.

Procedural

These meetings are open to the public. Please note that the meetings may adjourn early if all business is finished. At the Chair's discretion, members of the public may make oral presentations during the meetings. If you would like to make an oral presentation at the meetings, please notify Mr. Gould no later than March 8, 2005. Written material for distribution at the meetings should reach the Coast Guard no later than March 8, 2005. If you would like a copy of your material distributed to each member of the committee or working group in advance of the meetings, please submit 10 copies to Mr. Gould no later than March 8, 2005.

Information on Services for Individuals With Disabilities

For information on facilities or services for individuals with disabilities or to request special assistance at the meetings, contact Mr. Gould at the number listed in FOR FURTHER INFORMATION CONTACT as soon as possible.

Dated: February 14, 2005.
David L. Scott,
Acting Director of Standards, Marine Safety, Security and Environmental Protection.

[FR Doc. 05-3380 Filed 2-18-05; 8:45 am]

BILLING CODE 4910-15-P